DEPARTMENT OF LABOR

Employment and Training Administration

[TA-W-56,497]

Johnson Controls, Inc., Wamsutta Plant, Anderson, SC; Notice of Termination of Investigation

Pursuant to section 221 of the Trade Act of 1974, an investigation was initiated on February 4, 2005 in response to a petition filed by a company official on behalf of workers at Johnson Controls, Inc., Wamsutta Plant, Anderson, South Carolina. Johnson Controls is an on site leased worker company for Springs Industries Wamsutta Plant, Anderson, South Carolina.

The petitioning group of workers is covered by an active certification, (TA-W-56,295A) which expires on February 16, 2007. Consequently, further investigation in this case would serve no purpose; therefore the investigation under this petition has been terminated.

Signed in Washington, DC, this 8th day of March, 2005.
Richard Church,
Certifying Officer, Division of Trade Adjustment Assistance.

[FR Doc. E5-1350 Filed 3-25-05; 8:45 am]

BILLING CODE 4510-30-P